DEPARTMENT OF EDUCATION

Applications for New Awards; Coordinating Center for Transition Programs for Students With Intellectual Disabilities Into Higher Education

AGENCY: Office of Postsecondary Education, Department of Education.

ACTION: Notice.

SUMMARY: The Department of Education (Department) is issuing a notice inviting applications (NIA) for new awards for fiscal year (FY) 2020 for the Coordinating Center for Transition Programs for Students with Intellectual Disabilities into Higher Education—Model Comprehensive Transition and Postsecondary Programs for Students with Intellectual Disabilities Program-Coordinating Center (TPSID-CC), Catalog of Federal Domestic Assistance (CFDA) number 84.407B. This notice relates to the approved information collection under OMB control number 1894-0006.

DATES:

Applications Available: May 11, 2020.

Deadline for Transmittal of Applications: July 10, 2020.

Deadline for Intergovernmental Review: September 8, 2020.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Shedita Alston, U.S. Department of Education, 400 Maryland Avenue SW, Room 260-24, Washington, DC 20202-4260. Telephone: (202) 453-7090. Email: Shedita.Alston@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the TPSID program is to support a national coordinating center charged with conducting and disseminating research on strategies to promote positive academic, social, employment, and independent living outcomes for students with intellectual disabilities. The TPSID-CC will establish a comprehensive research and evaluation protocol for TPSID programs; administer a mentoring program matching current and new TPSID grantees based on areas of expertise; and coordinate longitudinal follow-up data collection and technical assistance to TPSID grantees on programmatic components and evidence-based practices. The TPSID-CC will also provide technical assistance to build the capacity of kindergarten through grade 12 transition services and support postsecondary education inclusive practices, among other activities.

Background: As part of the Higher Education Opportunity Act of 2008, Congress authorized the TPSID-CC for institutions of higher education (IHEs) that offer inclusive comprehensive transition and postsecondary programs for students with intellectual disabilities, including institutions funded under the Transition Programs for Students with Intellectual Disabilities (TPSID) program. Since that time, the TPSID-CC has played a vital role in supporting the work of TPSID grantees, including identifying and disseminating best practices, promoting the development of high-quality performance measures, and collecting valuable information about the provision of postsecondary education for students with intellectual disabilities.

Priority: This notice contains one absolute priority. In accordance with 34 CFR 75.105(b)(2)(iv), this priority is from section 777(b) of the HEA (20 U.S.C. 1140q(b)).

Absolute Priority: For FY 2020 and any subsequent year in which we make awards from the list of unfunded applications from this competition, this priority is an absolute priority. Under 34 CFR 75.105(c)(3) we consider only applications that meet this priority.

This priority is:

A grant recipient must use grant funds to establish a coordinating center for IHEs that offer inclusive comprehensive transition and postsecondary programs for students with intellectual disabilities, including IHEs participating in grants authorized by the TPSID program. The TPSID-CC must provide such programs recommendations related to the development of standards for such programs, technical assistance for such programs, and evaluations for such programs. The TPSID-CC must establish and maintain a coordinating center that must—

(1) Serve as the technical assistance entity for all comprehensive transition and postsecondary programs for students with intellectual disabilities;

(2) Provide technical assistance regarding the development, evaluation, and continuous improvement of such programs;

(3) Develop an evaluation protocol for such programs that includes qualitative and quantitative methodologies for measuring student outcomes and program strengths in the areas of academic enrichment, socialization, independent living, and competitive or supported employment;

(4) Assist recipients of grants under the TPSID program in efforts to award a meaningful credential to students with intellectual disabilities upon the completion of such programs, which credential must take into consideration unique State factors;

(5) Develop recommendations for the necessary components of such programs, such as—

(i) Academic, vocational, social, and independent living skills;

(ii) Evaluation of student progress;

(iii) Program administration and evaluation;

(iv) Student eligibility; and

(v) Issues regarding the equivalency of a student's participation in such programs to semester, trimester, quarter, credit, or clock hours at an IHE, as the case may be;

(6) Analyze possible funding streams for such programs and provide recommendations regarding the funding streams;

(7) Develop model memoranda of agreement for use between or among IHEs and State and local agencies providing funding for such programs;

(8) Develop mechanisms for regular communication, outreach, and dissemination of information about comprehensive transition and postsecondary programs for students with intellectual disabilities to those institutions that have grants authorized under the TPSID program and to families and prospective students;

(9) Host a meeting of all recipients of grants authorized under the TPSID program not less often than once each year; and

(10) Convene a workgroup to develop and recommend model criteria, standards, and components of such programs as described in paragraph (5) that are appropriate for the development of accreditation standards, which workgroup must include—

(i) An expert in higher education;

(ii) An expert in special education;

(iii) A disability organization that represents students with intellectual disabilities;

(iv) A representative from the National Advisory Committee on Institutional Quality and Integrity; and

(v) A representative of a regional or national accreditation agency or association.

Definitions: The definition of “comprehensive transition and postsecondary program for students with intellectual disabilities” is from section 760(1) of the HEA (20 U.S.C. 1140(1)). The definition of “student with an intellectual disability” is from section 760(2) of the HEA (20 U.S.C. 1140(2)).

Comprehensive transition and postsecondary program for students with intellectual disabilities means a degree, certificate, or nondegree program that—

(A) Is offered by an IHE;

(B) Is designed to support students with intellectual disabilities who are seeking to continue academic, career and technical, and independent living instruction at an IHE in order to prepare for gainful employment;

(C) Includes an advising and curriculum structure;

(D) Requires students with intellectual disabilities to participate on not less than a half-time basis as determined by the institution, with such participation focusing on academic components, and occurring through one or more of the following activities:

(i) Regular enrollment in credit-bearing courses with nondisabled students offered by the institution.

(ii) Auditing or participating in courses with nondisabled students offered by the institution for which the student does not receive regular academic credit.

(iii) Enrollment in noncredit-bearing, nondegree courses with nondisabled students.

(iv) Participation in internships or work-based training in settings with nondisabled individuals; and

(E) Requires students with intellectual disabilities to be socially and academically integrated with nondisabled students to the maximum extent possible.

Student with an intellectual disability means a student—

(A) With a cognitive impairment, characterized by significant limitations in—

(i) Intellectual and cognitive functioning; and

(ii) Adaptive behavior as expressed in conceptual, social, and practical adaptive skills; and

(B) Who is currently, or was formerly, eligible for a free appropriate public education under the Individuals with Disabilities Education Act.

Program Authority: 20 U.S.C. 1140q(b).

Applicable Regulations: (a) The Education Department General Administrative Regulations (EDGAR) in 34 CFR parts 75, 77, 79, 82, 84, 86, 97, 98, and 99. (b) The OMB Guidelines to Agencies on Government-wide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 86 apply to IHEs only.

II. Award Information

Type of Award: Discretionary grants.

Estimated Available Funds: Up to $2,000,000.

Contingent upon the availability of funds and the quality of applications, we may make additional awards in subsequent fiscal years from the list of unfunded applications from this competition.

Maximum Awards: We will not make an award exceeding $2,000,000 for a single budget period of 12 months.

Estimated Number of Awards: 1.

Note: The Department is not bound by any estimates in this notice.

Project Period: 60 months.

III. Eligibility Information

1. Eligible Applicants: Under section 777(b)(1) of the HEA, an “eligible entity” means an entity, or a partnership of entities, that has demonstrated expertise in the fields of—

(1) Higher education;

(2) The education of students with intellectual disabilities;

(3) The development of comprehensive transition and postsecondary programs for students with intellectual disabilities; and

(4) Evaluation and technical assistance.

2. Cost Sharing or Matching: This competition does not require cost sharing or matching.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements and information on how to submit an application.

2. Intergovernmental Review: This program is subject to Executive Order 12372 and the regulations in 34 CFR part 79. Information about Intergovernmental Review of Federal Programs under Executive Order 12372 is in the application package for this program.

3. Funding Restrictions: We reference regulations outlining funding restrictions in the Applicable Regulations section of this notice.

4. Recommended Page Limit: The application narrative is where you, the applicant, address the selection criteria that reviewers use to evaluate your application. We recommend that you (1) limit the application narrative to no more than 70 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger, and no smaller than 10 pitch (characters per inch).

• Use one of the following fonts: Times New Roman, Courier, Courier New, or Arial.

The recommended page limit applies to the application narrative. However, the recommended page limit does not apply to the Application for Federal Assistance form (SF-424); the ED SF-424 Supplement form; the Budget Information—Non-Construction Programs form (ED 524); the assurances and certifications; or the one-page project abstract, the program profile form, and supporting budget narrative. Please include a separate heading when responding to the absolute priority.

V. Application Review Information

1. Selection Criteria: The following selection criteria for this program are from 34 CFR 75.210. The points assigned to each criterion are indicated in parentheses. Applicants may earn up to a total of 100 points for the selection criteria.

(a) Need for project (up to 10 points).

(1) The Secretary considers the need for the proposed project.

(2) In determining the need for the proposed project, the Secretary considers the following factors:

(i) The magnitude or severity of the problem to be addressed by the proposed project.

(ii) The magnitude of the need for the services to be provided or the activities to be carried out by the proposed project.

(iii) The extent to which specific gaps or weaknesses in services, infrastructure, or opportunities have been identified and will be addressed by the proposed project, including the nature and magnitude of those gaps or weaknesses.

(b) Quality of the project design (up to 20 points).

(1) The Secretary considers the quality of the design of the proposed project.

(2) In determining the quality of the design of the proposed project, the Secretary considers the following factors:

(i) The extent to which the design of the proposed project is appropriate to, and will successfully address, the needs of the target population or other identified needs.

(ii) The extent to which the design of the proposed project includes a thorough, high-quality review of the relevant literature, a high-quality plan for project implementation, and the use of appropriate methodological tools to ensure successful achievement of project objectives.

(iii) The extent to which the proposed project is designed to build capacity and yield results that will extend beyond the period of Federal financial assistance.

(iv) The extent to which the design of the proposed project reflects up-to-date knowledge from research and effective practice.

(c) Quality of project services (up to 20 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the services to be provided by the proposed project are appropriate to the needs of the intended recipients or beneficiaries of those services.

(ii) The likelihood that the services to be provided by the proposed project will lead to improvements in the skills necessary to gain employment or build capacity for independent living.

(d) Quality of project personnel (up to 15 points).

(1) The Secretary considers the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director or principal investigator.

(2) The qualifications, including relevant training and experience, of key project personnel.

(e) Adequacy of resources (up to 15 points).

(1) The Secretary considers the adequacy of resources for the proposed project.

(2) In determining the adequacy of resources for the proposed project, the Secretary considers the following factors:

(i) The adequacy of support, including facilities, equipment, supplies, and other resources, from the applicant organization or the lead applicant organization.

(ii) The extent to which the budget is adequate to support the proposed project.

(iii) The extent to which the costs are reasonable in relation to the number of persons to be served and to the anticipated results and benefits.

(iv) The potential for continued support of the project after Federal funding ends, including, as appropriate, the demonstrated commitment of appropriate entities to such support.

(f) Quality of the project evaluation (up to 20 points).

(1) The Secretary considers the quality of the evaluation to be conducted of the proposed project.

(2) In determining the quality of the project evaluation to be conducted of the proposed project, the Secretary considers the following factors:

(i) The extent to which the methods of evaluation provide for examining the effectiveness of project implementation strategies.

(ii) The extent to which the methods of evaluation include the use of objective performance measures that are clearly related to the intended outcomes of the project and will produce quantitative and qualitative data to the extent possible.

(iii) The extent to which the methods of evaluation will provide performance feedback and permit periodic assessment of progress towards achieving intended outcomes.

(iv) The extent to which the evaluation will provide guidance about effective strategies suitable for replication or testing in other settings.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Risk Assessment and Specific Conditions: Consistent with 2 CFR 200.205, before awarding grants under this program, the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements, please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case, the Secretary establishes a data collection period.

5. Performance Measures:

The Government Performance and Results Act of 1993 directs Federal departments and agencies to improve the effectiveness of their programs by engaging in strategic planning, setting outcome-related goals for programs, and measuring program results against those goals. The goal of the TPSID-CC Program is to provide—(a) recommendations related to the development of standards for inclusive comprehensive transition and postsecondary programs for students with intellectual disabilities; (b) technical assistance for such programs; and (c) evaluations for such programs. To assess the success of the grantee in meeting these goals, in addition to other information, the grantee's annual performance report must include—

(a) The percentage of inclusive comprehensive transition and postsecondary programs assisted by the TPSID-CC that meet evidence-based, center-developed standards for necessary program components, reported across each standard; and

(b) The percentage of students with intellectual disabilities who are enrolled in programs assisted by the TPSID-CC who complete the programs and obtain a meaningful credential, as defined by the TPSID-CC and supported through empirical evidence.

In addition, the TPSID-CC will work closely with the Federal project officer to develop additional performance measures, performance targets, and data collection methodologies that are aligned with this work. Data must be collected by the TPSID-CC on accreditation standards and communications with recognized accrediting agencies, descriptions and analyses of funding streams, and the impact of the TPSID-CC's technical assistance activities related to outreach and dissemination. These additional performance measures will capture formative data about the quality, usefulness, relevance, and efficiency of the TPSID-CC's technical assistance and evaluation services.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site, you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Robert L. King,
Assistant Secretary for Postsecondary Education.

[FR Doc. 2020-10021 Filed 5-8-20; 8:45 am]

BILLING CODE 4000-01-P